Title 3—

The President

Proclamation 7535 of March 25, 2002

Greek Independence Day: A National Day of Celebration of Greek and American Democracy, 2002

By the President of the United States of America

A Proclamation

Ancient Greece was the birthplace of the democratic principles and thought that fundamentally shaped the growth of democracy in world history. Societies aspiring toward more democratic forms of government have found inspiration in the Greek tradition of representative government and free political discourse. As modern Greece celebrates the anniversary of its independence, won 181 years ago, Greeks can be proud that its vibrant democracy continues and that it is based upon the beliefs in freedom and self-rule first forged in classical Greece over 2500 years ago.

These ideals have been embraced by peoples of the world who aspire towards democracy, including the Founders of the United States; and they were tested by the attacks of September 11, 2001. The terrorists sought to destroy a political and economic system that promotes individual freedoms and tolerance, defends national liberty, and supports the full participation of its citizens in the democratic process. The terrorists failed; but rather than destroying us, their attacks strengthen our resolve to stand up to this evil. Along with the members of our worldwide coalition, including Greece, we are committed to defeating terrorism and protecting liberty.

The friendship between the United States and Greece continues to thrive and is based upon our common cultural bonds and our shared national values. Today, more than 3 million Americans proudly claim Greek heritage, representing a continuing link between our countries. From the arts and education to industry and science, Greek Americans have made significant contributions to the cultural, civic, and economic vitality of our land.

As we celebrate Greek independence, we remember the history of those who sacrificed their lives to preserve freedom and democracy. We value our friendship and continuing partnership with the government and people of Greece, and we commit to work together to provide greater opportunity and more freedoms for the citizens of the world. And we join the world in anticipating the momentous 2004 Summer Olympic Games, which will be held in Athens, the birthplace of Olympic competition.

NOW, THEREFORE, I, GEORGE W. BUSH, President of the United States of America, by virtue of the authority vested in me by the Constitution and laws of the United States, do hereby proclaim March 25, 2002, as “Greek Independence Day: A National Day of Celebration of Greek and American Democracy.” I encourage all Americans to take special note of Greece's rich history of democracy, the strong bonds of friendship and culture between our countries, and the important role that Greek Americans play in our Nation.

IN WITNESS WHEREOF, I have hereunto set my hand this twenty-fifth day of March, in the year of our Lord two thousand two, and of the Independence of the United States of America the two hundred and twenty-sixth.

B

[FR Doc. 02-7754

Filed 3-27-02; 8:45 am]

Billing code 3195-01-P